DEPARTMENT OF HEALTH AND HUMAN SERVICES

National Institutes of Health

National Cancer Institute; Notice of Meeting

Pursuant to section 10(a) of the Federal Advisory Committee Act, as amended (5 U.S.C. App.), notice is hereby given of a meeting of the NCI-Frederick Advisory Committee.

The meeting will be open to the public, with attendance limited to space available. Individuals who plan to attend and need special assistance, such as sign language interpretation or other reasonable accommodations, should notify the Contact Person listed below in advance of the meeting.

Name of Committee: NCI-Frederick Advisory Committee.

Date: January 25, 2012.

Time: 10:30 a.m. to 4 p.m.

Agenda: Review major new projects proposed to be performed at NCI-Frederick.

Place: NCI-Frederick Library and Conference Center, Building 549, 549 Sultan Drive, Executive Board Room, Frederick, MD 21702.

Contact Person: Thomas M. Vollberg, Sr., Ph.D., Executive Secretary, National Cancer Institute, National Institutes of Health, 6116 Executive Boulevard 7th Floor, Room 7142, Bethesda, MD 20892-8327, (301) 594-9582.

Any interested person may file written comments with the committee by forwarding the statement to the Contact Person listed on this notice. The statement should include the name, address, telephone number and when applicable, the business or professional affiliation of the interested person.

NCI-Frederick is located within the Ft. Detrick U.S. Army facility in Frederick, Maryland. Please be aware that you will be asked to provide Ft. Detrick security with proof of identification (e.g., driver's license, NIH ID, passport), and your vehicle will be briefly searched, including the trunk and any boxes, bags, or other items, before being allowed to enter the facility grounds. All visitors must enter through the Old Farm Gate, which is located on Rosemont Avenue. Please note that there are two gates on Rosemont Avenue, one for decaled vehicles, and one for Visitors. The Old Farm Gate, for visitors, is located at the intersection of Old Farm Dr. and Rosemont Ave. Note that the intended destination is the Conference Center/Scientific Library (Bldg. 549). A visitor's guide to the NCI-Frederick campus with maps and directions to Building 549 can be found at http://ncifrederick.cancer.gov/About/VisitorsGuide.aspx.

Information is also available on the Institute's/Center's home page: http://deainfo.nci.nih.gov/advisory/fac/fac.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: December 15, 2011.
Jennifer S. Spaeth,
Director, Office of Federal Advisory Committee Policy.

[FR Doc. 2011-32687 Filed 12-20-11; 8:45 am]

BILLING CODE 4140-01-P